DEPARTMENT OF ENERGY

Federal Energy Regulatory Commission

[Docket No. AD13-9-000]

Hydropower Regulatory Efficiency Act of 2013; Supplemental Notice of Workshop

As announced in the Notice issued on September 3, 2013, the Federal Energy Regulatory Commission (FERC or Commission) staff will hold a workshop on October 2, 2013, from 12:00 p.m. to 4:00 p.m. eastern daylight time (EDT). This workshop will solicit public comments and recommendations on the feasibility of a two-year process for the issuance of a license for hydropower development at non-powered dams and closed-loop pumped storage projects in compliance with section 6 of the Hydropower Regulatory Efficiency Act of 2013. The workshop will be held in the Commission Meeting Room at 888 First Street NE., Washington, DC 20426. The workshop will be open to the public and all interested parties are invited to participate. Commission members will attend and may participate in the workshop. An agenda for the workshop is attached to this notice.

This workshop will be transcribed. Transcripts of the workshop will be immediately available for a fee from Ace-Federal Reporters, Inc. at (202) 347-3700. A free webcast of this event will be available through www.ferc.gov. Anyone with internet access who wants to view this event can do so by navigating to the Calendar of Events at www.ferc.gov and locating this event in the Calendar. The event will contain a link to its webcast. The Capitol Connection provides technical support for webcasts and offers the option of listening to the workshop via phone-bridge for a fee. If you have any questions, visit www.CapitolConnection.org or call (703) 993-3100.

Those interested in attending the workshop or viewing the webcast are encouraged to register at https://www.ferc.gov/whats-new/registration/efficiency-act-10-02-13-form.asp by September 25, 2013. A limited number of phone lines will be available on a first-come, first-served basis for interested parties to participate via teleconference. If you would like to participate via teleconference, please contact Ken Wilcox at (202) 502-6835 or kenneth.wilcox@ferc.gov by September 25, 2013.

Commission workshops are accessible under section 508 of the Rehabilitation Act of 1973. For accessibility accommodations, please send an email to accessibility@ferc.gov, call (866) 208-3372 (toll free) or (202) 208-8659 (TTY), or send a FAX to (202) 208-2106 with the required accommodations.

Those who wish to file written comments may do so by November 1, 2013. The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number AD13-9-000.

All comments will be placed in the Commission's public files and will be available for review at the Commission in the Public Reference Room or may be viewed on the Commission's Web site at www.ferc.gov using the eLibrary link. Enter AD13-9 in the docket number field to access documents. For assistance, please contact FERC Online Support.

For more information about this workshop, please contact:

Brandon Cherry (Technical Information), Office of Energy Projects, Federal Energy Regulatory Commission, 888 First Street, NE, Washington, DC 20426, (202) 502-8328, brandon.cherry@ferc.gov

Sarah McKinley (Logistical Information), Office of External Affairs, Federal Energy Regulatory Commission, 888 First Street NE., Washington, DC 20426, (202) 502-8004, sarah.mckinley@ferc.gov

Dated: September 18, 2013.
Kimberly D. Bose,
Secretary.

Two-Year Licensing Process Workshop

Purpose: To solicit comments and recommendations on a two-year process for licensing hydropower development at non-powered dams and closed-loop pumped storage projects.

Workshop Agenda

1. Introduction—12:00 p.m. to 12:30 p.m.¹

¹ All times are eastern daylight time.

1.1 Opening remarks from the Commissioners

1.2 Introduction of FERC staff and panel members

1.3_Workshop procedures

2. Background (FERC staff presentation)—12:30 p.m. to 12:45 p.m.

2.1 Section 6 of the Hydropower Regulatory Efficiency Act of 2013

2.2 Licensing process steps

2.3 Process times for recently authorized projects

2.4 Actions implemented to shorten process times

2.5 Common factors that lengthen process times

3. Investigating the feasibility of a two-year process (Input solicited from panel and participants)—12:45 p.m. to 3:00 p.m.

3.1 Is a two-year process feasible?

3.2 What pre-filing process steps can be eliminated, shortened, or combined?

3.3 What post-filing process steps can be eliminated, shortened, or combined?

3.4 In a two-year process, how much time should be allotted to pre-filing versus post-filing?

3.5 What, if any, process modifications are needed to account for mandatory conditions and other agency authorizations (e.g. sections 4(e) and 18 of the FPA, 401 certifications, ESA consultation)? What about fish and wildlife recommendations made under section 10(j) of the FPA?

3.6 Could memorandums of understanding between FERC and federal or state agencies help expedite processing?

3.7 Are there economic factors that affect the practicality of a two-year process?

3.8 Does the type of project (i.e., non-powered dam versus closed-loop pumped storage) affect the steps included in a two-year process?

3.9 Should there be a single standard two-year process or should developers be allowed to propose unique, project-specific processes?

3.10 Is a two-year process needed for exemptions from licensing or are existing procedures adequate for expedited processing of these projects?

4. Factors and criteria for identifying pilot projects (Input solicited from panel and participants)—3:00 p.m. to 3:55 p.m.

4.1 What project design or siting criteria should be met to be eligible to use a two-year process? Would the same criteria apply to projects at non-powered dams and closed-loop pumped storage projects?

4.2 What environmental criteria should be met to be eligible to use a two-year process? Would the same criteria apply to projects at non-powered dams and closed-loop pumped storage projects?

4.3 In order for a project to qualify for a two-year process, should there be agreement on, and limits to, the need to develop new information?

4.4 Are there certain types of issues that should preclude a project from being eligible for a two-year process?

4.5 Are there developers that will be ready to begin testing a two-year process by February 5, 2014?

5. Closing comments and next steps—3:55 p.m. to 4:00 p.m.

[FR Doc. 2013-23170 Filed 9-23-13; 8:45 am]

BILLING CODE 6717-01-P